DEPARTMENT OF THE INTERIOR

Bureau of Land Management

43 CFR Part 4100

[WO-220-1020-24 1A]

RIN 1004-AD42

Grazing Administration—Exclusive of Alaska

AGENCY: Bureau of Land Management, Interior.

ACTION: Notice of availability of the draft environmental impact statement for Proposed Regulatory Revisions to Grazing Regulations for the Public Lands and announcement of public meetings.

SUMMARY: The Bureau of Land Management (BLM) announces the availability of the draft environmental impact statement (Draft EIS) published to support proposed revisions to the regulations governing grazing administration, which were published in the Federal Register on December 8, 2003. The analysis provided in the Draft EIS is intended to inform the public of the direct, indirect, and cumulative effects on the human environment of the proposed action and each alternative. BLM will hold 5 public meetings to provide opportunities for the public to ask questions and provide comments about the issues and alternatives considered in the Draft EIS.

DATES: Comments will be accepted until March 2, 2004. BLM may not necessarily consider or include in the final environmental impact statement comments that BLM receives after the close of the comment period or comments submitted in a manner or to an address that differs from those described below. The location, date and time for each of the scheduled meetings on the Draft EIS are given below.

ADDRESSES: You may submit your comments by one of several methods. If you have Internet access, the BLM encourages you to submit your comments using their “ePlanning” system. This Draft EIS is a pilot for the ePlanning system and your participation and feedback on this interactive Web-based public comment process would be very helpful to the BLM in developing and improving this system. To access ePlanning, go to http://www.blm.gov and follow the directions found at that site. If you do not have Internet access, you may mail your comments to: Director (630), Bureau of Land Management, Eastern States Office, 7450 Boston Boulevard, Springfield, Virginia 22153, Attention: Revisions to Grazing Regulations Draft EIS. You may also deliver your comments by courier or non-U.S. Postal Service overnight mail to: 1620 L Street, NW., Suite 1075, Washington, DC 20036, Attention: Revisions to Grazing Regulations Draft EIS.

Comments, including names and street addresses of respondents, will be available for public review and will be published as part of the final environmental impact statement. Individual respondents may request confidentiality which we will provide to the extent allowed by law. If you wish for us to withhold your name and/or address, you must state this prominently at the beginning of your comment. The ePlanning system will not accept your comments unless you indicate whether or not you want your name withheld from publication.

FOR FURTHER INFORMATION CONTACT: Molly S. Brady at (202) 452-7714 for information relating to the Draft EIS or Frank Bruno at (202) 452-0352 for information relating to the rulemaking process. Persons who use a telecommunications device for the deaf (TDD) may contact these individuals through the Federal Information Relay Service (FIRS) at 1-800-877-8330, 24 hours a day, 7 days a week.

SUPPLEMENTARY INFORMATION:

I. Public Comment Procedures

II. Background

I. Public Comment Procedures

A limited number of printed copies of the Draft EIS, as well as compact disk versions of the Draft EIS, are available and may be obtained by contacting Molly S. Brady by phone at (202) 452-7714, or by writing to her at the Bureau of Land Management, WO-220 Mail Stop: LS 204, 1849 C Street, NW., Washington, DC 20240.

Your comments on the Draft EIS should:

1. Be specific;

2. Explain the reason for your comments and suggestions;

3. Be about the issues relevant to the Draft EIS or the proposed changes to the grazing regulations; and

4. Where possible, reference the specific section or paragraph in the Draft EIS that you are addressing.

The comments and recommendations that are most useful and likely to influence decisions on the content of a draft environmental impact statement are:

1. Comments and recommendations supported by quantitative information or studies; and

2. Comments that include citations to and analyses of the applicable laws and regulations.

We will hold meetings on the Draft EIS as shown in the table below:

Locations | Date and time | Location | Contact person
Salt Lake City, Utah | Tuesday, January 27, 2004, 6 p.m. to 10 p.m | Marriott Hotel, 75 South West Temple, Salt Lake City, UT 84101 | Laura Williams (801) 539-4027.
Phoenix, Arizona | Wednesday, January 28, 2004, 6 p.m. to 10 p.m | Wyndham Phoenix Hotel, 50 East Adams Street, Phoenix, AZ 85004 | Deborah Stevens (602) 417-9215.
Boise, Idaho | Saturday, January 31, 2004, 1 p.m. to 5 p.m | Doubletree Riverside Hotel, Tamarack Room, 2900 Chinden Boulevard, Boise, ID 83714 | Cheryle Zwang, (203) 373-9215.
Cheyenne, Wyoming | Tuesday, February 3, 2004, 6 p.m. to 10 p.m | Little America, West America Ballroom, 2800 West Lincoln Way, Cheyenne, WY 82009 | Cindy Wertz (307) 775-6014.
Washington, DC | Thursday, February 5, 2004, 1 p.m. to 5 p.m | Courtyard by Marriott-Embassy Row, 1600 Rhode Island Avenue, Washington, DC 20036 | Tom Gorey (202) 452-5137.

The sites for the public meetings are accessible to individuals with physical impairments. If you need a special accommodation to participate in one or all of the meetings (e.g., interpreting service, assistive listening device, or materials in alternative format), please notify the contact person at the location you wish to attend no later than two weeks prior to the scheduled meeting. Although we will attempt to meet all requests received, the requested accommodations may not always be available.

If you plan to present a statement at the meetings, we will ask you to sign in before the meeting starts and identify yourself clearly for the record. Your allotted speaking time at the meeting(s) will be determined before the meeting(s), based upon the number of persons wishing to speak and the approximate time available for the session. You will be provided at least 3 minutes to speak.

If you do not wish to speak at the meetings but you have views, questions, and concerns about either the Draft EIS or the proposed regulations you may submit written statements for inclusion in the public record at the meeting. You may also submit written comments and suggestions regardless of whether you attend or speak at a public meeting. See the ADDRESSES section of this notice for where to submit comments.

Comments, including names and street addresses of respondents, will be available for public review and will be published as part of the final environmental impact statement. Individual respondents may request confidentiality, which we will provide to the extent allowed by law. If you wish to withhold your name or street address from public review or from disclosure under the Freedom of Information Act, you must state this prominently at the beginning of your written comment. The Planning system will not accept your comments unless you indicate whether or not you want your name withheld from publication. All submissions from organizations and businesses, and from individuals identifying themselves as representatives or officials of organizations or businesses, will be available for public inspection in their entirety.

II. Background

On December 8, 2003, BLM published a Notice of Proposed Rule in the Federal Register (68 FR 68452). The proposed rule would amend the regulations governing BLM's grazing administration program. This notice announces the availability of the Draft EIS under the National Environmental Policy Act (NEPA).

Since the first set of grazing regulations was issued after passage of the Taylor Grazing Act of 1934, as amended (43 U.S.C. 315, 315a-315r), the regulations have been periodically modified, revised, and updated. The last major revision effort culminated when BLM published and implemented comprehensive changes to the grazing regulations in 1995.

The proposed changes to the grazing regulations are intended to improve working relationships with grazing permittees, protect public rangeland health, and enhance administrative efficiency and effectiveness, including resolution of legal issues.

Authority: 40 CFR 1506.6.

Dated: December 29, 2003.
Joseph O. Ratliff,
Acting Assistant Secretary of the Interior.

[FR Doc. 03-32336 Filed 12-31-03; 2:31 pm]

BILLING CODE 4310-84-P